NUCLEAR REGULATORY COMMISSION

Sunshine Act Meeting

Agency Holding the Meetings: Nuclear Regulatory Commission.

Dates: Weeks of October 2, 9, 16, 23, 30, November 6, 2006.

Place: Commissioners' Conference Room, 11555 Rockville Pike, Rockville, Maryland.

Status: Public and Closed.

Matters to be Considered:

Week of October 2, 2006

Thursday, October 5, 2006

12:55 p.m.—Affirmation Session (Public Meeting) (Tentative) a. Entergy Nuclear Operations, Inc., (Pilgrim Nuclear Power Station), Massachusetts Attorney General's Petition for Backfit Order (Tentative).

Week of October 9, 2006—Tentative

There are no meetings scheduled for the Week of October 9, 2006.

Week of October 16, 2006—Tentative

Monday, October 16, 2006

9:30 a.m—Briefing on Status of New Reactor Issues—Combined Operating Licenses (COLS) (morning session).

1:30 p.m.—Briefing on Status of New Reactor Issues—Combined Operating Licenses (COLS) (afternoon session) (Public Meetings) (Contact: Dave Matthews, 301-415-1199).

These meetings will be webcast live at the Web address— http://www.nrc.gov.

Friday, October 20, 2006

2:30 p.m.—Meeting with Advisory Committee on Reactor Safeguards (ACRS) (Public Meeting) (Contact: John Larkins, 301-415-7360).

This meeting will be webcast live at the Web address— http://www.nrc.gov.

Week of October 23, 2006—Tentative

Tuesday, October 24, 2006

9:30 a.m.—Briefing on Transshipment and Domestic Shipment Security of Radioactive Material Quantities of Concern (RAMQC) (Closed—Ex. 3) (morning session).

1:30 p.m.—Briefing on Transshipment and Domestic Shipment Security of Radioactive Material Quantities of Concern (RAMQC) (Closed—Ex. 3 & 9) (afternoon session).

Wednesday, October 25, 2006

9:30 a.m.—Briefing on Institutionalization and Integration of Agency Lessons Learned (Public Meeting) (Contact: John Lamb, 301-415-1727).

This meeting will be webcast live at the Web address— http://www.nrc.gov.

1:30 p.m.—Briefing on Resolution of GSI-191, Assessment of Beris Accumulation on PWR Sump Performance (Public Meeting) (Contact: Michael L. Scott, 301-415-0565).

This meeting will be webcast live at the Web address— http://www.nrc.gov.

Week of October 30, 2006—Tentative

There are no meetings scheduled for the Week of October 30, 2006.

Week of November 6, 2006—Tentative

Wednesday, November 8, 2006

9:30 a.m.—Briefing on Digital Instrumentation and Control (Public Meeting) (Contact: Paul Rebstock, 301-415-3295).

This meeting will be webcast live at the Web address— http://www.nrc.gov.

Thursday, November 9, 2006

9:30 a.m.—Briefing on draft Final Rule—Part 52 (Early Site permits/Standard Design Certification/Combined Licenses) (Public Meeting) (Contact: Dave Matthews, 301-6 415-1199).

This meeting will be webcast live at the Web address— http://www.nrc.gov.

* * * * *

*The schedule for Commission meetings is subject to change on short notice. To verity the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript of other information from the public meetings in another format (e.g., braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: September 28, 2006.
R. Michelle Schroll,
Office of the Secretary.

[FR Doc. 06-8470 Filed 9-29-06; 9:48 am]

BILLING CODE 7590-01-M